DEPARTMENT OF THE INTERIOR

Bureau of Land Management

[NV-030-1610-DH-241A]

Notice of Intent to Prepare an Amendment to the Walker Resource Management Plan

The Carson City Field Office of the Bureau of Land Management and Douglas County, Nevada will jointly coordinate preparation of the following: (1) A County Specific Plan for about 625 acres of Federal and private lands in Douglas County, Nevada and (2) a BLM Resource Management Plan Amendment for about 430 acres of BLM lands included in Douglas County's Specific Plan.

AGENCY: Bureau of Land Management, Carson City Field Office, 5665 Morgan Mill Road, Carson City, NV 89701.

ACTION: Notice of intent to prepare an amendment to the Walker Resource Management Plan, notice of scoping period and public meetings.

SUMMARY: The Bureau of Land Management (BLM), Carson City, Field Office, and Douglas County will jointly direct preparation of a County Specific Plan and Walker Resource Management Plan Amendment and environmental assessment. The Resource Management Plan Amendment will identify specific tracts of BLM managed public lands in the North Douglas County specific Planning Area for potential disposal through exchange or under the Recreation and Public Purposes Act (R&PP) and criteria for BLM acquisition of private lands or interests in private lands within Douglas County, Nevada. The environmental assessment, to be produced by a third-party contractor, will analyze the impacts (direct, indirect, and cumulative) of the potential disposal of BLM managed public lands and criteria for acquisition or private lands or interests in private lands by the BLM.

EFFECTIVE DATES: A public scoping meeting will be held on May 17, 2000 to allow the public an opportunity to identify issues and concerns to be addressed in the plan amendment and Environmental analysis. Comments will be accepted until June 2, 2000. Scoping comments may be sent to: Field Manager, Bureau of Land Management, 5665 Morgan Mill Road, Carson City, NV 89701.

The scheduled public meeting will be held on May 17, 2000 at 6:30 p.m. at the Carson Valley Community Church, located at 3616 North Sunridge Drive.

FOR FURTHER INFORMATION CONTACT: For additional information, write to the Field Manager of the Carson City Field Office at the address listed in the agency section of this notice, call or email Mike McQueen (BLM NEPA Coordinator) at (775) 885-6120, mmcqueen@nv.blm.gov.

SUPPLEMENTARY INFORMATION: The proposed plan amendment schedule is as follows:

Begin Public Scoping: May 1, 2000

Host Public Scoping Meeting: May 17, 2000

Release Proposed Plan Amendment, EA and FONSI for Public Review, Governor's Consistency Review: September 15, 2000

Issue Plan Amendment and Decision Record: January 15, 2000

Planning Criteria

Planning criteria have been developed to ensure that the plan amendment is tailored to the issues identified and ensure that unnecessary data collection and analysis would be avoided. These criteria may change in response to public comment and coordination with state and local governments or other Federal agencies. The criteria developed for the North Douglas County Plan Amendment are described below. The plan amendment will address the following decisions in the North Douglas County Planning Area:

1. Identify specific parcels of public lands for potential disposal through exchange, or under the R&PP Act to private entities.

2. Identify specific parcels of public lands for potential transfer to the Washoe Tribe or to another Federal agency for management on behalf of the Tribe.

3. Adopt criteria for BLM acquisition of private lands or interests in lands within Douglas County.

4. Approximately 430 acres of BLM managed public lands located in North Douglas County will be affected by the decisions regarding land disposal through exchange, R&PP Act or transfer to the Tribe or other Federal agency for management on behalf of the Tribe.

5. A significant cultural resource site important to the Washoe Tribe exists on these lands and will require inventory, delineation, management and protection.

6. Criteria for BLM acquisition of lands or interests in lands will focus on the acquisition of conservation easements in the Carson River Flood Plain in order to protect agricultural lands and the associated open space values, wildlife habitat, and flood plain functions. Approximately 25,000 of private lands in the flood plain are expected to be threatened by development in the future.

7. Additional acquisition criteria will be developed or adopted for sensitive lands elsewhere in Douglas County.

8. No lands will be transferred out of or into Federal ownership as a direct result of this plan amendment. Specific exchange proposals or leases under the R&PP will be considered and analyzed case by case after the joint County Specific Plan and BLM Resource Management Plan Amendment are completed.

Dated: April 27, 2000.
Richard Conrad,
Assistant Field Office Manager for Nonrenewable Resources.

[FR Doc. 00-11056 Filed 5-2-00; 8:45 am]

BILLING CODE 4310-HC-M